DEPARTMENT OF ENERGY

Federal Energy Regulatory Commission

Combined Notice of Filings #2

Take notice that the Commission received the following electric rate filings:

Docket Numbers: ER13-97-005

Applicants: Black Hills/Colorado Electric Utility Company, LP

Description: Compliance filing per 35: Order No. 1000 OATT Third Regional Compliance Filing to be effective 1/1/2015.

Filed Date: 11/17/14

Accession Number: 20141117-5257

Comments Due: 5 p.m. ET 12/8/14

Docket Numbers: ER14-1183-001

Applicants: Southwestern Electric Power Company

Description: Compliance filing per 35: SWEPCO-TexLa PSA Amendment SPP IM Compliance to be effective 3/1/2014.

Filed Date: 11/18/14

Accession Number: 20141118-5146

Comments Due: 5 p.m. ET 12/9/14

Docket Numbers: ER14-1184-001

Applicants: Southwestern Electric Power Company

Description: Compliance filing per 35: SWEPCO-ETEC PSA Amendment SPP IM Compliance to be effective 3/1/2014.

Filed Date: 11/18/14

Accession Number: 20141118-5147

Comments Due: 5 p.m. ET 12/9/14

Docket Numbers: ER14-1185-001

Applicants: Southwestern Electric Power Company

Description: Compliance filing per 35: SWEPCO-NTEC PSA Amendment SPP IM Compliance to be effective 3/1/2014.

Filed Date: 11/18/14

Accession Number: 20141118-5148

Comments Due: 5 p.m. ET 12/9/14

Docket Numbers: ER14-1186-001

Applicants: Southwestern Electric Power Company

Description: Compliance filing per 35: SWEPCO-TexLa ERCOT PSA Amendment SPP IM Compliance to be effective 3/1/2014.

Filed Date: 11/18/14

Accession Number: 20141118-5149

Comments Due: 5 p.m. ET 12/9/14

Docket Numbers: ER14-1187-001

Applicants: Southwestern Electric Power Company

Description: Compliance filing per 35: SWEPCO-ETC NTEC PSA Amendment SPP IM Compliance to be effective 3/1/2014.

Filed Date: 11/18/14

Accession Number: 20141118-5150

Comments Due: 5 p.m. ET 12/9/14

Docket Numbers: ER14-1402-001

Applicants: Southwestern Electric Power Company

Description: Compliance filing per 35: SWEPCO-Rayburn PSA Amendment SPP IM Compliance to be effective 3/1/2014.

Filed Date: 11/18/14

Accession Number: 20141118-5152

Comments Due: 5 p.m. ET 12/9/14

Docket Numbers: ER14-2137-001

Applicants: Southwestern Electric Power Company

Description: Compliance filing per 35: SWEPCO-Minden PSA Amendment SPP IM Compliance to be effective 3/1/2014.

Filed Date: 11/18/14

Accession Number: 20141118-5151

Comments Due: 5 p.m. ET 12/9/14

Docket Numbers: ER14-2983-001

Applicants: Idaho Power Company

Description: Tariff Amendment per 35.17(b): Supplemental Filing to First Revised BPA PF and OTEC NITSAs to be effective 10/1/2014.

Filed Date: 11/18/14

Accession Number: 20141118-5123

Comments Due: 5 p.m. ET 12/9/14

Docket Numbers: ER15-72-001

Applicants: Southwest Power Pool, Inc.

Description: Tariff Amendment per 35.17(b): 1976R3 Substitute Kaw Valley Electric Cooperative, Inc. NITSA and NOA to be effective 8/1/2014.

Filed Date: 11/18/14

Accession Number: 20141118-5088

Comments Due: 5 p.m. ET 12/9/14

Docket Numbers: ER15-77-001

Applicants: Southwest Power Pool, Inc.

Description: Tariff Amendment per 35.17(b): 2041R3 Substitute Kansas City Board of Public Utilities PTP to be effective 8/1/2014.

Filed Date: 11/18/14

Accession Number: 20141118-5130

Comments Due: 5 p.m. ET 12/9/14

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 18, 2014.
Nathaniel J. Davis, Sr.,
Deputy Secretary.

[FR Doc. 2014-27905 Filed 11-24-14; 8:45 am]

BILLING CODE 6717-01-P